DEPARTMENT OF TRANSPORTATION

Federal Railroad Administration

[Docket Number FRA-2013-0038]

Petition for a Waiver of Compliance

In accordance with Part 211 of Title 49 Code of Federal Regulations (CFR), this document provides the public notice that by a document dated February 24, 2013, the Naugatuck Railroad (NAUG) has petitioned the Federal Railroad Administration (FRA) for a waiver of compliance from certain provisions of the Federal railroad safety regulations contained at 49 CFR part 240, Qualification and Certification of Locomotive Engineers. FRA assigned the petition Docket Number FRA-2013-0038.

Specifically, NAUG seeks a waiver of compliance from 49 CFR 240.201(d), which provides that only certified persons may operate a locomotive in any class of locomotive or train service, in order to operate an “engineer-for-an-hour” (EFH) program. NAUG is a wholly owned subsidiary of the Railroad Museum of New England, Inc. (Museum), and the EFH program is in support of funding the educational mission of the Museum. NAUG is a Class III shortline railroad that operates and controls the Torrington Secondary line, which is owned by the State of Connecticut, and leased to the railroad. The line extends approximately 20 miles between Waterbury, Connecticut; and Torrington, Connecticut.

In its petition, NAUG proposes to conduct the EFH program between Milepost (MP) 4.5 in Watertown, Connecticut; and MP 17.5 in Torrington, Connecticut. There are no public highway-rail grade crossings between these two locations. NAUG proposes to operate the EFH program under the following conditions and controls: (1) NAUG will use a positive blocking system (pursuant to the Northeast Operating Rules Advisory Committee Form D Control System rules) to ensure only EFH operations can be operated over a given segment of track, during daylight hours only; (2) NAUG will verify that each participant in the EFH program is in possession of a valid State-issued motor vehicle license; (3) NAUG will evaluate each participant in the EFH program for his or her visual fitness to operate the locomotive with respect to obvious signs of alcohol or drug use; and (4) NAUG will ensure that a certified locomotive engineer is in the locomotive cab at all times.

NAUG also states in its petition that a qualified and certified locomotive engineer will conduct a job briefing with each participant in the EFH program to ensure that all parties know and understand the movement that will be made and each individual's responsibilities in the proposed movements. NAUG proposes to limit the EFH train size to one locomotive and not more than three cars. No revenue passengers or members of the public will be on board during EFH rail operations. NAUG asserts that if FRA were to grant this waiver, it will enable NAUG to generate funds for the Museum to support its goals of refurbishing antique railroad equipment and educating the public about railroad history and operations. NAUG does not believe that the EFH operations will pose any safety concerns to the public at large.

A copy of the petition, as well as any written communications concerning the petition, is available for review online at www.regulations.gov and in person at the U.S. Department of Transportation's Docket Operations Facility, 1200 New Jersey Avenue SE., W12-140, Washington, DC 20590. The Docket Operations Facility is open from 9 a.m. to 5 p.m., Monday through Friday, except Federal holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal holidays.

Communications received within May 30, 2013 of the date of this notice will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC, on April 24, 2013.
Robert C. Lauby,
Deputy Associate Administrator for Regulatory and Legislative Operations.

[FR Doc. 2013-10067 Filed 4-29-13; 8:45 am]

BILLING CODE 4910-06-P